DEPARTMENT OF TRANSPORTATION

Surface Transportation Board

[STB Finance Docket No. 34472]

Columbia Basin Railroad Company, Inc.—Lease and Operation Exemption—Clark County, WA

Columbia Basin Railroad Company, Inc. (CBRC), a Class III rail carrier, has filed a verified notice of exemption under 49 CFR 1150.41 to acquire by lease and to operate approximately 14 miles of rail line owned by Clark County, WA (the County), between milepost 0.0 at Vancouver Junction, WA, and milepost 14.1 at Battle Ground, WA.¹

¹ Lewis & Clark Railway Company (Lewis & Clark), a Class III rail carrier, was authorized to conduct operations over the line pursuant to a lease agreement. See Lewis & Clark Railway Company—Exemption Operation—Chelatchie Prairie Railroad, Inc., Finance Docket No. 31042 (ICC served May 22, 1987), and Lewis & Clark Railway Company—Lease and Operation Exemption—in Clark County, WA, STB Finance Docket No. 33325 (STB served Jan. 15, 1997). By letter dated January 30, 2004, the County notified Lewis & Clark that CBRC will be the new operator. By letter filed February 18, 2004, the County notified the Board that Lewis & Clark's lease agreement expired on January 31, 2004, that the County was in the process of changing operators, and that CBRC will be the new operator.

CBRC certifies that its projected revenues as a result of this transaction will not result in the creation of a Class II or a Class I rail carrier. The transaction was scheduled to be consummated on or after February 20, 2004, the effective date of the exemption.

If the notice contains false or misleading information, the exemption is void ab initio. Petitions to revoke the exemption under 49 U.S.C. 10502(d) may be filed at any time. The filing of a petition to revoke will not automatically stay the transaction.

An original and 10 copies of all pleadings, referring to STB Finance Docket No. 34472, must be filed with the Surface Transportation Board, 1925 K Street, NW., Washington, DC 20423-0001. Also, a copy of each pleading must be served on Rose-Michele Weinryb, 1300 19th Street, NW., 5th Floor, Washington, DC 20036.

CBRC is directed to serve a copy of this notice on all shippers on the line and on Lewis & Clark Railway Company within 10 days after publication in the Federal Register and to certify to the Board that it has done so.

Board decisions and notices are available on our Web site at www.stb.dot.gov.

Decided: March 3, 2004.
By the Board, David M. Konschnik, Director, Office of Proceedings.
Vernon A. Williams,
Secretary.

[FR Doc. 04-5258 Filed 3-10-04; 8:45 am]

BILLING CODE 4915-01-P